DEPARTMENT OF THE TREASURY

Community Development Financial Institutions Fund

Notice of Funds Availability (NOFA) Inviting Applications for Financial Assistance (FA) Awards or Technical Assistance (TA) Grants Under the Community Development Financial Institutions Program (CDFI Program) Fiscal Year (FY) 2017 Funding Round

Announcement Type: Announcement of funding opportunity.

Funding Opportunity Number: CDFI-2017-FATA.

Catalog of Federal Domestic Assistance (CFDA) Number: 21.020.

Key Dates:

Table 1—FY 2017 CDFI Program Funding Round Critical Deadlines for Applicants
Description | Deadline | Time (eastern daylight time-EDT) | Submission method
CDFI Certification Applications | March 24, 2017 | 11:59 p.m. EDT | Electronically via Award Management Information System (AMIS).
SF424 (Application for Federal Assistance) | March 24, 2017 | 11:59 p.m. EDT | Electronically via Grants.gov.
Last day to contact CDFI Program staff | April 26, 2017 | 5:00 p.m. EDT | Service Request via Award Management Information System (AMIS) or CDFI Fund Helpdesk: 202-653-0421 or cdfihelp@cdfi.treas.gov.
CDFI Program Application for Financial Assistance (FA) or Technical Assistance (TA) | April 28, 2017 | 11:59 p.m. EDT | Electronically via Awards Management Information System (AMIS).

Executive Summary: Through the CDFI Program, the CDFI Fund provides (i) FA awards of up to $2 million to Certified Community Development Financial Institutions (CDFIs) to build their financial capacity to lend to their Target Markets, and (ii) TA grants of up to $125,000 to build Certified, Certifiable, and Emerging CDFIs' organizational capacity to serve their Target Markets. All awards provided through this NOFA are subject to funding availability.

I. Program Description

A. History: The CDFI Fund was established by the Riegle Community Development Banking and Financial Institutions Act of 1994 to promote economic revitalization and community development through investment in and assistance to CDFIs. Since its creation in 1994, the CDFI Fund has awarded more than $2.2 billion to CDFIs, community development organizations, and financial institutions through the Community Development Financial Institutions Program (CDFI Program), the Native American CDFI Assistance Program (NACA Program), the Bank Enterprise Award Program (BEA Program), the Capital Magnet Fund, and the Financial Education and Counseling Pilot Program. In addition, the CDFI Fund has allocated more than $50.5 billion in tax credit allocation authority through the New Markets Tax Credit Program (NMTC Program) and has obligated $1.1 billion in bond guarantees to Eligible CDFIs through the CDFI Bond Guarantee Program.

B. Priorities: Through the CDFI Program's FA awards and TA grants, the CDFI Fund invests in and builds the capacity of for-profit and non-profit community based lending organizations known as Community Development Financial Institutions, or CDFIs. These organizations, Certified as CDFIs by the CDFI Fund, serve rural and urban low-income people and communities across the nation that lack adequate access to affordable financial products and services.

C. Authorizing Statutes and Regulations: The CDFI Program is authorized by the Riegle Community Development Banking and Financial Institutions Act of 1994 (Pub. L. 103-325, 12 U.S.C. 4701 et seq.). The regulations governing the CDFI Program are found at 12 CFR parts 1805 and 1815 (the Regulations) and set forth evaluation criteria and other program requirements. The CDFI Fund encourages Applicants to review the Regulations; this NOFA; the Application; and the Uniform Administrative Requirements, Cost Principles, and Audit Requirements for Federal Awards (2 CFR 200; 78 Federal Register 78590) (Uniform Administrative Requirements) for a complete understanding of the program. Capitalized terms in this NOFA are defined in the authorizing statute, the Regulations, this NOFA, the Application, or the Uniform Administrative Requirements. Details regarding Application content requirements are found in the Application and related materials.

D. Uniform Administrative Requirements, Cost Principles, and Audit Requirements for Federal Awards (2 CFR 200): The Uniform Administrative Requirements codify financial, administrative, procurement, and program management standards that Federal award agencies must follow. When evaluating award applications, awarding agencies must evaluate the risks to the program posed by each applicant, and each applicant's merits and eligibility. These requirements are designed to ensure that applicants for Federal assistance receive a fair and consistent review prior to an award decision. This review will assess items such as the Applicant's financial stability, quality of management systems, the soundness of its business plan, history of performance, ability to achieve measurable impacts through its products and services, and audit findings. In addition, the Uniform Administrative Requirements include guidance on audit requirements and other award compliance requirements for award Recipients.

E. Funding Limitations: The CDFI Fund reserves the right to fund, in whole or in part, any, all, or none of the Applications submitted in response to this NOFA.

II. Federal Award Information

A. Funding Availability

1. FY 2017 Funding Round: The CDFI Fund expects to award, through this NOFA, approximately $175 million as indicated in the following table:

Table 2—FY 2017 Funding Round Anticipated Category Amounts
Funding categories (see definition in table 7) | Estimated total amount to be awarded (millions) | Award amount: Minimum | Award amount: Maximum | Estimated number of awards for FY 2017 | Estimate average amount awarded in FY 2017 | Average amount awarded in FY 2016
FA: Category I/Small and/or Emerging CDFI Assistance (SECA) | $19 | $125,000 | $700,000 | 43 | $442,000 | $487,000
FA: Category II/Core | 130 | 500,000 | 2,000,000 | 174 | 707,000 | 1,382,000
TA | 4 | 10,000 | 125,000 | 35 | 114,000 | 118,000
Healthy Food Financing Initiative—Financial Assistance (HFFI-FA) * | 22 | 500,000 | 5,000,000 | 10 | 2,200,000 | 2,400,000
Total | $175 |  |  | 262 |  |
* HFFI-FA appropriation will be allocated in one competitive round between the NACA and CDFI Program NOFAs.

The CDFI Fund reserves the right to award more or less than the amounts cited above in each category, based upon available funding and other factors, as appropriate.

2. Funding Availability for the FY 2017 Funding Round: Funds for the FY 2017 Funding Round are subject to change based on passage of a final FY 2017 budget; if Congress does not appropriate funds for the CDFI Program there will not be a FY 2017 Funding Round. If funds are appropriated, the amount of such funds may be greater or less than the amounts set forth above. The CDFI Fund reserves the right to contact applicants to seek additional information in the event that that final FY 2017 appropriations for the CDFI Program change any of the requirements of this NOFA. As of the date of this NOFA, the CDFI Fund is operating under a continuing funding resolution as enacted by the Further Continuing and Security Assistance Appropriations Act of 2017 (Pub. L. 114-254).

3. Anticipated Start Date and Period of Performance: The CDFI Fund anticipates the period of performance for the FY 2017 Funding Round will begin in late September 2017. Specifically, the period of performance for TA grants for certified CDFIs begins with the date of the notice of the award and includes an award Recipient's two full consecutive fiscal years after the date of the notice of the award, during which the Recipient must meet the performance goals set forth in the Assistance Agreement. The period of performance for TA grants for Certifiable CDFIs or Emerging CDFIs begins with the date of the notice of the award and includes an award Recipient's three full consecutive fiscal years after the date of the notice of the award, during which the Recipient must meet the performance goals set forth in the Assistance Agreement. The period of performance for FA awards begins with the date of the notice of the award and includes an award Recipient's three full consecutive fiscal years after the date of the notice of the award, during which time the Recipient must meet its performance goals.

B. Types of Awards

Through the CDFI Program, the CDFI Fund provides two types of awards: Financial Assistance (FA) and Technical Assistance (TA) awards. An Applicant may submit an Application for a TA grant or an FA award, but not both.

1. FA Awards: FA awards can be in the form of loans, grants, Equity Investments, deposits and credit union shares. The form of the FA award is based on the form of the matching funds that the Applicant includes in its Application, unless Congress waives the matching funds requirement. Matching funds are required for FA awards, must be from non-Federal sources, and cannot have been used as matching funds for any other Federal award. The CDFI Fund reserves the right, in its sole discretion, to provide an FA award in an amount other than that which the Applicant requests; however, the award amount will not exceed the Applicant's award request as stated in its Application.

2. Healthy Food Financing Initiative—Financial Assistance (HFFI-FA) Awards: HFFI-FA awards will be provided as a supplement to FA awards; therefore, only those Applicants that have been selected to receive an FA award through the CDFI Program FY 2017 Funding Round will be eligible to receive an HFFI-FA award. HFFI-FA awards can be in the form of loans, grants, Equity Investments, deposits and credit union shares. The form of the HFFI-FA award is based on the form of the matching funds that the Applicant includes in its Application, unless Congress waives the matching funds requirement. Matching funds are required for HFFI-FA awards, must be from non-Federal sources, and cannot have been used as matching funds for any other Federal award. The CDFI Fund reserves the right, in its sole discretion, to provide an HFFI-FA award in an amount other than that which the Applicant requests; however, the award amount will not exceed the Applicant's award request as stated in its Application.

3. TA Grants: TA is provided in the form of grants. The CDFI Fund reserves the right, in its sole discretion, to provide a TA grant in an amount other than which the Applicant requests; however, the TA grant amount will not exceed the Applicant's request as stated in its Application and the applicable budget chart.

C. Eligible Activities

1. FA Awards: FA and HFFI-FA award funds can be expended for activities serving Commercial Real Estate, Small Business, Microenterprise, Community Facilities, Consumer Financial Products, Consumer Financial Services, Commercial Financial Services, Affordable Housing, Intermediary Lending to Non-Profits and CDFIs, and other lines of business as deemed appropriate by the CDFI Fund in the following five categories: (i) Financial Products; (ii) Financial Services; (iii) Loan Loss Reserves; (iv) Development Services; and (v) Capital Reserves. FA awards can only be used for direct costs associated with an eligible activity; no indirect expenses are allowed. Up to 15 percent of the FA award can be used for Direct Administrative Expenses associated with an eligible FA activity. For purposes of this NOFA, the five eligible activity categories are defined as follows:

Table 3—FA and HFFI-FA Eligible Activity Categories
FA eligible activity | FA eligible activity definition | Eligible CDFI institution types
i. Financial Products | FA expended as loans, Equity Investments and similar financing activities (as determined by the CDFI Fund) including the purchase of loans originated by certified CDFIs and the provision of loan guarantees; in the case of CDFI Intermediaries, Financial Products may also include loans to CDFIs and/or emerging CDFIs and deposits in Insured Credit Union CDFIs, emerging Insured Credit Union CDFIs, and/or State-Insured Credit Union CDFIs | All.
ii. Financial Services | FA expended for providing checking, savings accounts, check cashing, money orders, certified checks, automated teller machines, deposit taking, safe deposit box services, and other similar services | Insured Depository Institutions only. Not applicable for HFFI-FA Recipients.
iii. Loan Loss Reserves | FA set aside in the form of cash reserves, or through accounting-based accrual reserves, to cover losses on loans, accounts, and notes receivable made in the Applicant's Target Market, or for related purposes that the CDFI Fund deems appropriate | All.
iv. Development Services | FA expended for activities undertaken by a CDFI, its Affiliate or contractor that promote community development and shall prepare or assist current or potential borrowers or investees to use the CDFI's Financial Products or Financial Services. For example, such activities include, financial or credit counseling; homeownership counseling; and business planning and management assistance | All.
v. Capital Reserves | FA set aside as reserves to support the Applicant's ability to leverage other capital, for such purposes as increasing its net assets or serving the financing needs of its Target Market, or for related purposes as the CDFI Fund deems appropriate | Insured Depository Institutions only.

2. TA Grants: TA grant funds can be expended for the following seven eligible activity categories: (i) Compensation—personnel services; (ii) Compensation—fringe benefits; (iii) Professional Service Costs; (iv) Travel Costs; (v) Training and Education Costs; (vi) Equipment and other capital expenditures; and (vii) Supplies. Each of the eligible activity categories will not be authorized for indirect costs or an associated indirect cost rate. For purposes of this NOFA, the seven eligible activity categories are defined as follows:

Table 4—TA Eligible Activity Categories
(i) Compensation—personnel services | TA paid to cover salaries of the Applicant's personnel that are paid currently or accrued by the Applicant for work performed directly related to carrying out the purpose of the TA grant (including activities related to becoming certified as a CDFI), subject to the applicable provisions of the Uniform Administrative Requirements.
(ii) Compensation—fringe benefits | TA paid to cover costs of the Applicant's personnel employment (other than the employees' salaries) in proportion to the salary charged to the TA grant, to the extent that such payments are made under formally established and consistently applied organizational policies, subject to the applicable provisions of the Uniform Administrative Requirements.
(iii) Professional service costs | TA used to pay for professional and consultant services rendered by persons who are members of a particular profession or possess a special skill, and who are not officers or employees of the Recipient, subject to the applicable provisions of the Uniform Administrative Requirements. Payment for a consultant's services may not exceed the daily equivalent of the current maximum rate paid to an Executive Schedule Level IV Federal employee.
(iv) Travel costs | TA used to pay expenses for transportation, lodging, subsistence, and related items incurred by the Applicant's personnel who are on travel status on business related to the TA grant, subject to the applicable provisions of the Uniform Administrative Requirements.
(v) Training and education costs | TA used to pay the cost of training and education provided for employee development, subject to the applicable provisions of the Uniform Administrative Requirements.
(vi) Equipment | TA used to pay for tangible personal property, having a useful life of more than one year and a per-unit acquisition cost of at least $5,000, subject to the applicable provisions of the Uniform Administrative Requirements. Examples include office equipment, furnishings, and information technology equipment and systems.
(vii) Supplies | TA used to pay for tangible personal property with a per unit acquisition cost of less than $5,000, subject to the applicable provisions of the Uniform Administrative Requirements.

3. HFFI-FA Award: HFFI-FA award funds can only be expended for eligible FA activities referenced in Table 3. The HFFI-FA investments must comply with the following guidelines:

a. Recipient must deploy loans, equity investments, and similar financing activities, including the purchase of loans and the provision of loan guarantees for Healthy Food Retail Outlets and Healthy Food Non-Retail Outlets in its Target Market in an amount equal to or greater than 100% of the total HFFI Financial Assistance provided. Eligible financing activities to Healthy Food Retail Outlets and Healthy Food Non-Retail Outlets require that the majority of the HFFI-supported loan or investment must be devoted to offering a range of Healthy Food choice, which may include, among other activities, investments supporting an existing retail store or wholesale operation upgrading to offer an expanded range of Healthy Food choices, or supporting a nonprofit organization that expands the availability of Healthy Foods in underserved areas.

b. Recipient must also demonstrate that it has deployed loans, equity investments, and similar financing activities, including the purchase of loans and the provision of loan guarantees to Healthy Food Retail Outlets located in Food Deserts in the Recipient's Target Market in an amount equal to 75% of the total HFFI Financial Assistance provided.

c. Eligible financing activities to Healthy Food Retail Outlets require that the majority of the HFFI-supported loan or investment must be devoted to offering a range of Healthy Food choice, which may include, among other activities, investments supporting an existing retail store upgrading to offer an expanded range of Healthy Food choices.

Definitions

Healthy Foods. Healthy Foods include nutrient-dense foods and beverages as set forth in the USDA Dietary Guidelines for Americans 2015-2020 including whole fruits and vegetables, whole grains, fat free or low-fat dairy foods, lean meats and poultry (fresh, refrigerated, frozen or canned). Healthy Foods should have low or no added sugars, and be low-sodium, reduced sodium, or no-salt-added. (See USDA Dietary Guidelines: http://www.choosemyplate.gov/dietary-guidelines).

Healthy Food Retail Outlets. Commercial sellers of Healthy Foods including, but not limited to, grocery stores, mobile food retailers, farmers markets, retail cooperatives, corner stores, bodegas stores that sell other food and non-food items along with a range of Healthy Foods. As those terms are determined and defined by the CDFI Fund in the Assistance Agreement and related compliance materials.

Healthy Food Non-Retail Outlets. Wholesalers of Healthy Foods including, but not limited to, wholesale food outlets, wholesale cooperatives, or other non-retail food producers that supply for sale a range of Healthy Food options; entities that produce or distribute Healthy Foods for eventual retail sale, and entities that provide consumer education regarding the consumption of Healthy Foods. As those terms are determined and defined by the CDFI Fund in the Assistance Agreement and related compliance materials.

Food Deserts. Distressed geographic areas where either a substantial number or share of residents has low access to a supermarket or large grocery store. For the purpose of satisfying the requirements of Goal 2, Measure 2, a Food Desert must either: (1) Be a census tract determined to be a Food Desert by the U.S. Department of Agriculture (USDA), in its USDA Food Access Research Atlas; (2) be a census tract adjacent to a census tract determined to be a Food Desert by the USDA, in its USDA Food Access Research Atlas; which has a median family income less than or equal to 120 percent of the applicable Area Median Family Income; or (3) be a Geographic Unit as defined in 12 CFR part 1805.201(b)(3)(ii)(B), which (i) individually meets at least one of the criteria in 12 CFR part 1805.201(b)(3)(ii)(D), and (ii) has been identified as having low access to a supermarket or grocery store through a methodology that has been adopted for use by another governmental or philanthropic healthy food initiative.

III. Eligibility Information

A. Eligible Applicants: For the purposes of this NOFA, the following tables set forth the eligibility criteria to be in contention to receive an award from the CDFI Fund, along with certain definitions of terms. There are four categories of Applicant eligibility criteria: (1) CDFI certification criteria (Table 5); (2) requirements that apply to all Applicants (Table 6); (3) requirements that apply to TA Applicants (Table 7); and (4) requirements that apply to FA Applicants (Table 8).

Table 5—CDFI Certification Criteria Definitions
Certified CDFI | • An entity that the CDFI Fund has officially notified that it meets all CDFI certification requirements.
Certifiable CDFI | • An entity that has submitted a CDFI Certification Application to the CDFI Fund demonstrating that it meets the CDFI certification requirements but which has not yet been officially certified. (See Table 11 for application submission deadlines.)
| • The CDFI Fund will not enter into an Assistance Agreement or make an FA award payment unless and until an Applicant is a Certified CDFI.
| • The CDFI Fund will enter into an Assistance Agreement if the Applicant was awarded a TA award regardless of the Applicant's certification status.
Emerging CDFI (TA Applicants) | • A non-Certified entity that has not submitted a CDFI Certification Application but demonstrates to the CDFI Fund in its Application that it has an acceptable plan to meet certification requirements by the end of its period of performance, or another date that the CDFI Fund selects.
| • An Emerging CDFI that has prior award(s) will be held to the CDFI certification performance goal and measure(s) stated in its prior Assistance Agreement(s).
| • Emerging CDFIs may only apply for TA grants; they are not eligible to apply for FA awards.
| • Each Emerging CDFI selected to receive a TA grant will be required to become a Certified CDFI by a date specified in the Assistance Agreement.

Table 6—Eligibility Requirements for All Applicants
Applicant | • Only the entity that will carry out the proposed award activities can apply for an award (i.e., the intended award Recipient).
| • The information in the Application should only reflect the activities of the Applicant, including the presentation of financial and portfolio information. Do not include financial or portfolio information from parent companies, Affiliates, or Subsidiaries in the Application unless it relates to the provision of Development Services.
| • An Applicant that applies on behalf of another organization will be rejected without further consideration, except for Depository Institution Holding Companies (see below).
Application type and submission overview through Grants.gov and Awards Management Information System (AMIS) | • Applicants must submit the required application documents listed in Table 10. • The CDFI Fund will only accept Applications that use the official application templates provided on the Grants.gov and AMIS websites. Applications submitted with alternative or altered templates will not be considered.
| • Applicants have a two-step process that requires the submission of application documents on two separate deadlines and locations: (1) Grants.gov and (2) AMIS.
| ○ Grants.gov: Applicants must submit the Office of Management and Budget (OMB) Standard Form (SF) OMB SF-424, Application for Federal Assistance.
| ○ AMIS: Applicants must submit all other required application materials.
| ○ All Applicants must register in the Grants.gov and AMIS systems to successfully submit an application. The CDFI Fund strongly encourages applicants to register as early as possible.
| • Grants.gov and the SF-424:
| ○ The SF-424 must be submitted in Grants.gov on or before March 24, 2017, the deadline listed in Table 1 and Table 11. Applicants are strongly encouraged to submit their SF-424 as early as possible in the Grants.gov portal.
| ○ The deadline for the Grants.gov submission is before the AMIS deadline.
| ○ The SF-424 must be submitted under the CDFI Program Funding Opportunity Number.
| ○ If the SF-424 is not accepted by Grants.gov by the deadline, the CDFI Fund will not review any material submitted in AMIS and the application will be deemed ineligible.
| • AMIS:
| ○ AMIS is an enterprise-wide information technology system that replaced the myCDFI Fund portal. Applicants will use AMIS to submit and store organization and application information with the CDFI Fund.
| ○ Applicants are only allowed one CDFI Program Application submission in AMIS.
| ○ Only the Authorized Representative or Application Point of Contact, included in the Application, can submit the Application in AMIS.
| ○ All required application materials must be submitted in AMIS on or before the deadline specified in Tables 1 and 11.
Employer Identification Number (EIN) | • Applicants must have a unique EIN assigned by the Internal Revenue Service (IRS).
| • The CDFI Fund will reject an Application submitted with the EIN of a parent or Affiliate organization.
Dun & Bradstreet, (DUNS) number | • Pursuant to OMB guidance (68 FR 38402), an Applicant must apply using its unique DUNS number in Grants.gov.
| • The CDFI Fund will reject an Application submitted with the DUNS number of a parent or Affiliate organization.
Awards Management Information System (AMIS) | • Each Applicant must register as an organization in AMIS and submit all required application materials through the AMIS portal.
| • The Authorized Representative and/or Application Point of Contact must be included as “users” in the Applicant's AMIS account.
| • An Applicant that fails to properly register and update its AMIS account may miss important communication from the CDFI Fund or not be able to successfully submit an Application.
501(c)(4) status | • Pursuant to 2 U.S.C. 1611, any 501(c)(4) organization that engages in lobbying activities is not eligible for the receipt of a CDFI or NACA Program award.
Compliance with Nondiscrimination and Equal Opportunity Statutes, Regulations, and Executive Orders | • An Applicant may not be eligible to receive an award if proceedings have been instituted against it in, by, or before any court, governmental agency, or administrative body, and a final determination within the last three years indicates the Applicant has violated any of the following laws but not limited to: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency.
Depository Institution Holding Company Applicant | • In the case where a CDFI Depository Institution Holding Company Applicant intends to carry out the activities of an award through its Subsidiary CDFI Insured Depository Institution, the Application must be submitted by the CDFI Depository Institution Holding Company and reflect the activities and financial performance of the Subsidiary CDFI Insured Depository Institution.
| • Authorized representatives of both the Depository Institution Holding Company and the Subsidiary CDFI Insured Depository Institution must certify that the information included in the Application represents that of the Subsidiary CDFI Insured Depository Institution and that the award funds will be used to support the Subsidiary CDFI Insured Depository Institution for the eligible activities outlined in the Application.
Insured CDFI—Insured Credit Union and Insured Depository Institution | • To be eligible for an award, each Insured Depository Institution Applicant must have a CAMELS/CAMEL rating (rating for banks and credit unions, respectively), by its Federal regulator of at least “4.”
| • Organizations with CAMELS/CAMEL ratings of “5” will not be eligible for awards.
Use of award | • All awards made through this NOFA must be used to support the Applicant's activities in at least one of the FA or TA Eligible Activity Categories (see Section II.C).
| • Awards cannot be used to support the activities of, or otherwise be passed through, transferred, or co-awarded to, third-party entities, whether Affiliates, Subsidiaries, or others (except Depository Institution Holding Company Applicants.)
Requested award amount | • An Applicant must state its requested award amount in the Application in AMIS. An Application that does not include this amount will not be allowed to submit an Application.
Pending resolution of noncompliance | • The CDFI Fund will consider an Application submitted by an Applicant that has pending noncompliance issues of any of its previously executed award agreement(s), if the CDFI Fund has not yet made a final compliance determination.
Noncompliance status | • The CDFI Fund will not consider an Application submitted by an Applicant that has a previously executed award agreement(s) if, as of the date of the Application, (i) the CDFI Fund has made a determination that such entity is noncompliant with a previously executed agreement and (ii) the CDFI Fund has provided written notification that such entity is ineligible to apply for or receive any future CDFI Fund awards or allocations. Such entities will be ineligible to submit an Application for such time period as specified by the CDFI Fund in writing.
| • The CDFI Fund will not consider any Applicant that has defaulted on a CDFI Program loan within five years of the Application deadline.

Table 7—Eligibility Requirements for TA Applicants
CDFI certification status | (1) Emerging CDFIs (see definitions in Table 5), or
| (2) Certifiable or Certified CDFIs (see Table 5) that meet the following criteria:
| (1) Have total assets * as of the end of the Applicant's most recent fiscal year end in the following amounts:
| • Insured Depository Institutions and Depository Institution Holding Companies: Up to $250 million.
| • Insured Credit Unions: Up to $10 million.
| • Venture capital funds: Up to $10 million.
| • Other CDFIs: Up to $5 million or
| (2) Have begun operations ** on or after January 1, 2013.
| * “Total assets” is defined as the Total Assets as of Fiscal Year End Date stated in the Applicant's AMIS account and verified by internally prepared financial statements and/or audits.
| ** “Have begun operations” is defined as the financing activity start date indicated in the Applicant's AMIS account.
Matching funds | • Matching funds documentation is not required for TA awards.
Limitation on Awards | • An Emerging CDFI will be allowed to receive no more than three TA awards as an uncertified CDFI.

Table 8—Eligibility Requirements for FA Applicants
CDFI certification status | • Each FA Applicant must be a Certified CDFI prior to the announcement of award decisions.
| • An Applicant that is in a cure period to remedy CDFI recertification deficiencies at the time of award announcements will not be eligible for an FA award under this NOFA.
Matching funds documentation | • All Applicants must submit acceptable documentation attesting that they have received or will receive matching funds. Applicants that do not submit the Matching Funds Excel Workbook documenting the source of their matching funds will not be evaluated.
| • Awards will be limited to no more than two times the amount of In-Hand or Committed matching funds documentation provided at the time of Application.
| • Awards will be obligated in like form to the matching funds provided at time of Application. See Table 9. Matching Funds “Determination of Award Form” for additional guidance.
| • Award payments from the CDFI Fund will require eligible dollar-for-dollar In-Hand matching funds for the total payment amount. Recipients will not receive a payment until 100 percent of their matching funds are In-Hand.
| • The CDFI Fund will reduce and de-obligate the remaining balance of any Award that does not demonstrate full dollar-for-dollar matching funds equal to the announced award amount by the end of the Matching Funds Window.
$5 Million funding cap | • The CDFI Fund is prohibited from obligating more than $5 million in CDFI and NACA Program awards, in the aggregate, to any one organization and its Subsidiaries and Affiliates during any three-year period.
| • For purposes of this NOFA and subject to final FY 2017 appropriations language, the CDFI Fund will include CDFI and NACA Program final awards in the cap calculation that were provided to an Applicant (and/or its Subsidiaries or Affiliates) under the FY 2015, and 2016 funding rounds, as well as the requested FY 2017 award, excluding HFFI-FA awards. The CDFI Fund will make the FY 2017 funding round award announcements after September 23, 2017.
FA Category I (SECA) | • To be an eligible SECA Applicant, an Applicant must meet the following criteria:
| (1) Be a Certified or Certifiable CDFI;
| (2) Request $700,000 or less in FA funds; AND EITHER
| (3) Have total assets * as of the end of the Applicant's most recent fiscal year end in the following amounts:
| • Insured Depository Institutions and Depository Institution Holding Companies: Up to $250 million
| • Insured Credit Unions: Up to $10 million
| • Venture capital funds: Up to $10 million
| • Other CDFIs: Up to $5 million OR
| (4) Have begun operations ** on or after January 1, 2013.
| * “Total assets” is defined as the Total Assets of Fiscal Year End Date stated in the Applicant's AMIS account and verified by internally prepared financial statements and/or audits.
| ** “Have begun operations” is defined as the financing activity start date indicated in the Applicant's AMIS account.
FA Category II (Core) | • A Core Applicant must be either a Certified or Certifiable CDFI as defined in Table 5.
| • An Applicant that meets the SECA requirements stated above, that requests more than $700,000 in award funds is categorized as an FA Category II (Core) Applicant, regardless of its total assets and/or years in operation.
FA Applicants with Community Partners | • A CDFI Applicant can apply for assistance jointly with a Community Partner. The CDFI Applicant would complete the CDFI Program Application for (FA) and would address the Community Partnership in its business plan and other sections of the Application as specified in the guidance materials.
| • The CDFI Applicant must be either a Certified or Certifiable CDFI as defined in Table 5.
| • An Application with a Community Partner must:
| ○ Describe how the CDFI Applicant and Community Partner will each participate in carrying out the partnership and how the partnership will enhance activities serving the investment area or targeted population.
| ○ Demonstrate that the Community Partnership activities are consistent with the strategic plan submitted by the CDFI-Applicant.
| • Assistance provided upon approval of an Application with a Community Partner shall only be entrusted to the CDFI Applicant and shall not be used to fund any activity carried out directly by the Community Partner or an Affiliate or Subsidiary thereof.
HFFI-FA | • All HFFI-FA Applicants must:
| ○ Submit a CDFI or NACA Program FA Application;
| ○ Meet all FA award eligibility requirements;
| ○ Submit the HFFI-FA Application; and
| ○ Provide an HFFI-FA award request amount in AMIS.

B. Matching Funds Requirements: In order to receive an FA award, an Applicant must provide evidence of eligible dollar-for-dollar matching funds and attest that it can provide acceptable documentation upon the CDFI Fund's request. An Applicant that uses Retained Earnings or Equity Investments must provide documentation of eligible dollar-for-dollar matching funds at the time of application submission. The CDFI Fund will review summary matching funds information, attestations, and matching funds documentation, if applicable, prior to award payment and will pay funds based upon eligible In-Hand matching funds (see Table 9 for the definition of In-Hand). The CDFI Fund encourages Applicants to review the Regulations at 12 CFR 1805.500, the Uniform Administrative Requirements, and the matching funds guidance materials available on the CDFI Fund's Web site. Table 9 provides a summary of the matching funds requirements; additional details are set forth in the Application materials.

Table 9—Matching Funds Requirements
Matching funds requirements by application type | The following Applicants must provide evidence of acceptable matching funds:
| • Category I/SECA FA Applicants (upon request) *;
| • Category II/Core FA Applicants; and
| • HFFI-FA Applicants. (upon request) *
| TA Applicants are not required to provide matching funds.
| * The matching funds requirement for HFFI-FA and SECA FA applicants was waived in the appropriations bill for FY 2016 and the final FY 2017 appropriations are still pending. HFFI-FA and SECA FA applicants are not required to submit matching funds for their award requests at the time of application. However, the CDFI Fund reserves the right to request matching funds from HFFI-FA and SECA FA applicants if matching funds are not waived in the final FY 2017 CDFI Program appropriation.
Amount of required match | Applicants must provide evidence of eligible, In-Hand, dollar-for-dollar, non-Federal matching funds for every FA award dollar to be paid by the CDFI Fund. If awarded, Applicants that did not demonstrate 100 percent In-Hand matching funds at the time of Application may experience a longer payment timeline.
Determination of award form | FA awards will be made in comparable form and value to the eligible In-Hand and/or Committed matching funds documentation submitted by the Applicant.
| • For example, if an FA Applicant provides documentation of eligible loan matching funds for $200,000 and $400,000 of its matching funds in the form of grant, the CDFI Fund will obligate $200,000 of the FA award as a loan and $400,000 as a grant.
| • After awards have been announced, Award Recipients may request the CDFI Fund's permission to change the form of their award from loan to grant (by producing eligible grant matching funds), but will only be eligible to receive a grant equal to the federal credit subsidy amount associated with the original loan. Applicants will also experience delays in payments if requested award form changes are approved by the CDFI Fund.
Matching Funds Window definition | • The Applicant must receive eligible In-Hand matching funds between January 1, 2015 and January 15, 2018.
| • An Award Recipient must provide the CDFI Fund with all documentation demonstrating the receipt of In-Hand matching funds by January 31, 2018.
Matching funds and form of award | • Recipients will be approved for a maximum award size of two times the total amount of eligible In-Hand and/or Committed matching funds included in the Application, so long as they do not exceed the award amount limit.
| • The form of the matching funds documented in the Application determines the form of the award.
In-Hand matching funds definition | • Matching funds are In-Hand when the Applicant receives payment for the matching funds from the matching funds source and has acceptable documentation that can be provided to the CDFI Fund upon request. Acceptable In-Hand documentation must show the source, form (e.g., grant, loan, deposit, and Equity Investment), amount received, and the date the funds came into physical possession of the Applicant.
| • The following documentation, depending on the matching funds type, must be available to be provided to the CDFI Fund upon request:
| • Loan—the loan agreement and/or promissory note;
| • grant—the grant letter or agreement for all grants;
| • equity investment—the stock certificate and shareholder agreement;
| • retained earnings—audits or call reports from regulating entity;
| • third party in-kind contribution—evidence of receipt of contribution and valuation;
| • deposits—certificates of deposit agreement;
| • secondary capital—secondary capital agreement and disclosure and acknowledgement statement; AND
| • clearly legible documentation that demonstrates actual receipt of the matching funds including the date of the transaction and the amount, such as a copy of a check or a wire transfer statement.
| • Applicants must provide information on their In-Hand matching funds in the Matching Funds Breakout Table Excel Workbook (refer to Table 10—Required Application Documents) which must be submitted at the time of Application.
| • Although Applicants are not required to provide further documentation for In-Hand matching funds at the time of Application submission, except for Retained Earnings and Equity Investments, they must be able to provide documentation to the CDFI Fund upon request.
Committed matching funds definition | • Matching funds are Committed when the Applicant has entered into or received a legally binding commitment from the matching funds source showing the matching funds will be disbursed to the Applicant at a future date.
| • The Applicant must be able to provide the CDFI Fund, upon request, acceptable written documentation showing the source, form, and amount of the Committed matching funds (including, in the case of a loan, the terms thereof), as well as the anticipated payment date of the Committed funds.
| • Applicants must provide information on their Committed matching funds in the Matching Funds Breakout Table Excel Workbook (refer to Table 10—Required Application Documents) which must be submitted at the time of Application.
| • Although Applicants are not required to provide further documentation for Committed matching funds at the time of Application submission, except for Retained Earnings, it must be able to provide documentation to the CDFI Fund upon request.
Limitations on matching funds | • Matching funds must be from non-Federal sources.
| • Applicants cannot proffer matching funds that were accepted as matching funds for a prior FA award under the CDFI Program, NACA Program, or under another Federal grant or award program.
| • Matching funds must comply with Regulations at 12 C.F.R. 1805.500 et seq.
| • Matching funds must be attributable to at least one of the five eligible FA activities (see Section II.C).
Rights of the CDFI Fund | • The CDFI Fund reserves the right to contact the matching funds source to discuss the matching funds and the documentation that the Applicant provided if required or requested.
| • The CDFI Fund may grant an extension of the Matching Funds Window (defined in Table 9), on a case-by-case basis, if the CDFI Fund deems it appropriate.
| • The CDFI Fund reserves the right to rescind all or a portion of an FA award and re-allocate the rescinded award amount to other qualified Applicant(s), if an Award Recipient fails to provide evidence of In-Hand Matching Funds totaling its award amount obtained during the Matching Funds Window.
Matching funds in the form of third-party in-kind contributions | • Third party in-kind contributions are non-cash contributions (i.e., property or services) provided by non-Federal third parties to the Applicant.
| • Third party in-kind contributions will be considered to be in the form of a grant for matching funds purposes.
| • Third party in-kind contributions may be in the form of real property, equipment, supplies, and other expendable property, and the value of goods and services directly benefiting the eligible activities.
| • For third-party in-kind contributions, the fair market value of goods and services must be documented as the grant match.
| • Applicants will be responsible for documenting the value of all in-kind contributions as described in the Uniform Administrative Requirements.
Matching funds in the form of a loan | • An FA award made in the form of a loan will have the following standardized terms:
| • A 13-year term with semi-annual interest-only payments due in years 1 through 10, and fully amortizing payments due each year in years 11 through 13; and
| • A fixed interest rate of 1.9 percent, which was calculated by the CDFI Fund based on the U.S. Department of the Treasury's 10-year Treasury note.
| • The Applicant's matching funds loan(s) must:
| i. Have a minimum of a 3-year term (loans presented as matching funds with less than a 3-year term will not qualify as eligible match); and
| ii. be from a non-Federal source.
Severe Constraints Waiver | • Not more than 25 percent of the total funds available for obligation under this funding round may be matched under the Severe Constraints Waiver.
| • In the case of an Applicant demonstrating severe constraints on available sources of matching funds, the CDFI Fund, in its sole discretion, may permit such Applicant to comply with the matching funds requirements by reducing such requirements by up to 50 percent.
| • In order to be considered eligible for a Severe Constraints Waiver, an Applicant must meet all of the SECA eligibility criteria described in Table 8. Instructions for requesting a Severe Constraints Waiver will be made available if required.
Ineligible matching funds | • If the CDFI Fund determines that any portion of the Applicant's matching funds is ineligible, the CDFI Fund will permit the Applicant to offer documentation of alternative matching funds as a substitute for the ineligible matching funds.
| • In such instances:
| i. The Applicant must provide acceptable evidence of the alternative matching funds within the period of time specified by the CDFI Fund, and
| ii. the alternative matching funds will not increase the total amount of FA requested.
Use of matching funds from a prior CDFI Program Recipient | If an Applicant offers matching funds documentation from an organization that was a prior Recipient under the CDFI Program or NACA Program, the Applicant must be able to prove to the CDFI Fund's satisfaction that such funds do not consist, in whole or in part, of CDFI Program funds, NACA Program funds, or other Federal funds.
Matching funds in the form of retained earnings | • Retained earnings are eligible for use as matching funds when the CDFI Fund calculates an amount equal to:
| i. The increase in retained earnings that occurred over any one of the Applicant's fiscal years within the Matching Funds Window, adjusted to remove revenue and expenses derived from Federal sources and matching funds used for an award; or
| ii. the annual average of such increases that occurred over any three consecutive fiscal years of the Applicant with at least one of the fiscal years occurring within the Matching Funds Window, adjusted to remove revenue and expenses derived from Federal sources and matching funds used for an award; or
| iii. any combination of (i) and (ii) above that does not include matching funds used for an award.
| • Retained earnings will be matched with an FA award in the form of a grant.
Special rule for Insured Credit Unions and Insured Depository Institutions | • An Insured Credit Union's and Insured Depository Institution's retained earnings are eligible for use as matching funds when the CDFI Fund calculates an amount equal to:
| i. The increase in retained earnings that occurred over any one of the Applicant's fiscal years within the Matching Funds Window, adjusted to remove revenue from Federal sources and matching funds used for an award; or
| ii. the annual average of such increases that occurred over any three consecutive fiscal years of the Applicant with at least one of the fiscal years occurring within the Matching Funds Window, adjusted to remove revenue and expenses derived from Federal sources and matching funds used for an award; or
| iii. the entire retained earnings that have been accumulated since the inception of the Applicant, as provided in the Regulations.
| • If option (iii) is used for Insured Credit Unions, the Applicant must increase its member and/or non-member shares and/or total loans outstanding by an amount equal to the amount of retained earnings committed as matching funds.
| • This increase will be measured on a quarterly basis from March 31, 2017; must occur by the end of Year 1 of the Recipient's Performance Period, as set forth in its Assistance Agreement; and will be based on amounts reported in the Applicant's National Credit Union Administration (NCUA) form 5300 Call Report.
| • The CDFI Fund will assess the likelihood of this increase during the Application review process.
| • An award will not be made to any Applicant that has not demonstrated in the relevant NCUA form 5300 Call Reports that it has increased shares and/or total loans outstanding by at least 25 percent of the requested FA award amount between December 31, 2015, and December 31, 2016.
| • The matching funds are not In-Hand until the Recipient has increased its member and/or non-member shares, deposits and/or total loans outstanding by the amount of retained earnings since inception used as matching funds within the time period specified.
| • If option (iii) is used for Insured Depository Institutions or Depository Institution Holding Companies, the Applicant or its Subsidiary Insured Depository Institution (in the case of a Depository Institution Holding Company) must increase deposits and/or total loans outstanding by an amount equal to the amount of retained earnings committed as matching funds. Please note that Depository Institution Holding Company Applicants must use the call reports of the CDFI Subsidiary Insured Depository Institution that the requested FA award will support.
| • This increase will be measured on a quarterly basis from March 31, 2017; must occur by the end of Year 1 of the Recipient's Performance Period, as set forth in its Assistance Agreement; and will be based on amounts reported in the Bank Call Report.
| • The CDFI Fund will assess the likelihood of this increase during the Application review process.
| • An award will not be made to any Applicant that has not demonstrated in the relevant call reports that it has increased deposits and/or total loans outstanding by at least 25 percent of the requested FA award amount between December 31, 2015, and December 31, 2016.
| • The matching funds are not In-Hand until the Recipient has increased its deposits and/or total loans outstanding by the amount of retained earnings since inception used as matching funds within the time period specified.
| • All regulated Applicants utilizing the part (iii) Since Inception rule should refer to the Retained Earnings Guidance included in the Matching Funds Breakout Table Excel Workbook found on the CDFI Fund Web site.

IV. Application and Submission Information

A. Address to Request an Application Package: Application materials can be found on the CDFI Fund's Web site at www.cdfifund.gov/cdfi. Applicants may request a paper version of any Application material by contacting the CDFI Fund Help Desk at cdfihelp@cdfi.treas.gov.

B. Content and Form of Application Submission: All Applications must be prepared using the English language and calculations must be made in U.S. dollars. The following table lists the required Application documents for the FY 2017 Funding Round. The CDFI Fund reserves the right to request and review other pertinent or public information that has not been specifically requested in this NOFA or the Application. Information submitted by the Applicant that the CDFI Fund has not specifically requested will not be reviewed or considered as part of the Application. Information submitted must accurately reflect the Applicant's activities. Financial data, portfolio, and activity information provided in the Application should only include the Applicant's activities.

Table 10—Required Application Documents
Application documents | Applicant type | Submission format
SF-424 | All Applicants | Fillable PDF in Grants.gov.
CDFI Program Application Components: | All Applicants | AMIS.
• Funding Application Detail
• Data, Charts, and Narrative sections as listed in AMIS and outlined in Application materials
HFFI-FA Application Components: • Funding Application Detail | HFFI-FA Applicants—Must create new funding application | AMIS.
• Narratives
Attachments to the Application: Add to “Related Attachments” related list in application
Matching Funds Breakout Table Excel Workbook | FA Core Applicants | Excel in AMIS.
Key Staff Resumes | All Applicants | PDF or Word document in AMIS.
Organizational Chart | All Applicants | PDF in AMIS.
Audited Financial Statements | FA Applicants: Loan funds and other non-Insured Depository Institutions | PDF in AMIS.
Management Letters | FA Applicants: Loan funds and other non-Insured Depository Institutions, TA Applicants: If available | PDF in AMIS.
Unaudited Financial Statements (if Audited Financial Statements are not available) | TA Applicants: Loan funds and other non-Insured Depository Institutions | PDF in AMIS.
Call Reports | FA and TA Applicants: Insured Depository Institutions only | PDF in AMIS.
Current Year to Date—December 31, 2016 Unaudited Financial Statements | FA and TA Applicants: Loan funds and other non-Insured Depository Institutions | PDF in AMIS.
Additional Documents As Applicable: Community Partnership Agreement | All Applicants, if applicable | PDF or Word document in AMIS.
501(c)(4) Questionnaire Explanation
Environmental Review Form Explanation
Retained Earnings or Equity Investment Matching Funds Documentation

C. Application Submission: The CDFI Fund has a two-step process that requires the submission of application documents on separate deadlines and locations. The SF-424 must be submitted through Grants.gov and all other application documents through the AMIS portal. The CDFI Fund will not accept Applications via email, mail, facsimile, or other forms of communication, except in extremely rare circumstances that have been pre-approved by the CDFI Fund. Applicants are only required to submit the OMB SF-424, Application for Federal Assistance form in Grants.gov as all other application information (listed in Table 10) will be submitted through AMIS. The deadline for submitting the SF 424 is listed in Tables 1 and 11. All other application information must be submitted in AMIS and only the Authorized Representative or Application Point of Contact can submit the application.

Applicants are encouraged to submit the SF-424 as early as possible through Grants.gov to provide time to resolve any submission problems. Applicants should contact Grants.gov directly with questions related to the registration or submission process as the CDFI Fund does not maintain the Grants.gov system.

The CDFI Fund strongly encourages Applicants to start the Grants.gov registration process as soon as possible (refer to the following link: http://www.grants.gov/web/grants/register.html) as it may take several weeks to complete. An Applicant that has previously registered with Grants.gov must verify that its registration is current and active.

D. Dun & Bradstreet Universal Numbering System (DUNS): Pursuant to the Uniform Administrative Requirements, each Applicant must provide as part of its Application submission, a Dun and Bradstreet Universal Numbering System (DUNS) number. Applicants without a DUNS number will not be able to register and submit an Application in the Grants.gov system. Please allow sufficient time for Dun & Bradstreet to respond to inquiries and/or requests for DUNS numbers.

E. System for Award Management (SAM): Any entity applying for Federal grants or other forms of Federal financial assistance through Grants.gov must be registered in SAM before submitting its Application. The SAM registration process can take several weeks to complete. Applicants that have previously completed the SAM registration process must verify that their SAM accounts are current and active. Each Applicant must continue to maintain an active SAM registration with current information at all times during which it has an active Federal award or an Application under consideration by a Federal awarding agency. The CDFI Fund will not consider any Applicant that fails to properly register or activate its SAM account and, as a result, is unable to submit its Application by the Application deadline. Applicants must contact SAM directly with questions related to registration or SAM account changes as the CDFI Fund does not maintain this system. For more information about SAM, please visit https://www.sam.gov.

F. Submission Dates and Times:

1. Submission Deadlines: The following table provides the critical deadlines for the FY 2017 Funding Round.

Table 11—FY 2017 Funding Round Critical Deadlines for Applicants
Description | Deadline | Time (EDT) | Submission method
CDFI Certification Applications | March 24, 2017 | 11:59 p.m. EDT | Electronically via Award Management Information System (AMIS).
SF-424 (Application for Federal Assistance) | March 24, 2017 | 11:59 p.m. EDT | Electronically via Grants.gov.
Last day to contact CDFI Program staff | April 26, 2017 | 5:00 p.m. EDT | Service Request via Award Management Information System (AMIS) or CDFI Fund Helpdesk: 202-653-0421 or cdfihelp@cdfi.treas.gov.
CDFI Program Application for Financial Assistance (FA) or Technical Assistance (TA) | April 28, 2017 | 11:59 p.m. EDT | Electronically via Awards Management Information System (AMIS).

2. Confirmation of Application Submission in Grants.gov and AMIS: Applicants are required to submit the OMB SF-424, Application for Federal Assistance through the Grants.gov system, under the CDFI Program Funding Opportunity Number. All other required application materials must be submitted through the AMIS Web site. Application materials submitted through both systems are due by the applicable deadlines. Applicants must submit the SF-424 on an earlier deadline from the other required application materials in AMIS. If the SF-424 is not successfully accepted by Grants.gov by the deadline, the CDFI Fund will not review any of the material submitted in AMIS and the Application will be deemed ineligible.

a. Grants.gov Submission Information: Each Applicant will receive an email from Grants.gov immediately after submitting the SF-424 confirming that the submission has entered the Grants.gov system. This email will contain a tracking number for the submitted SF-424. Within 48 hours, the Applicant will receive a second email, which will indicate if the submitted SF-424 was either successfully validated or rejected with errors. However, Applicants should not rely on the email notification from Grants.gov to confirm that their SF-424 was validated. Applicants are strongly encouraged to use the tracking number provided in the first email to closely monitor the status of their SF-424 by contacting the helpdesk at Grants.gov directly. The Application material submitted in AMIS is not officially accepted by the CDFI Fund until Grants.gov has validated the SF-424.

b. Award Management Information System (AMIS) Submission Information: AMIS is a web-based portal where Applicants will directly enter their application information and add required attachments listed in Table 10. AMIS will verify that the Applicant provided the minimum information required to submit an Application. Applicants are responsible for the quality and accuracy of the information and attachments included in the Application submitted in AMIS. The CDFI Fund strongly encourages the Applicant to allow sufficient time to confirm the Application content, review the material submitted, and remedy any issues prior to the Application deadline. Only the Authorized Representative or an Application Point of Contact can submit the Application. Applicants can only submit one Application. Upon submission, the Application will be locked and cannot be resubmitted, edited, or modified in any way. The CDFI Fund will not unlock or allow multiple Application submissions.

3. Late Submission: The CDFI Fund will not accept an Application submitted after the Application deadline except where the submission delay was a direct result of a Federal government administrative or technological error. In such case, the Applicant must submit a written request for acceptance of late Application submission and include documentation of the error no later than two business days after the Application deadline. The CDFI Fund will not respond to request for acceptance of late Application submissions after that time period. Applicants must submit late Application submission requests to the CDFI Fund via an AMIS service request to the CDFI Program with a subject line of “Late Application Submission Request.”

G. Funding Restrictions: FA, HFFI-FA and TA awards are limited by the following:

1. FA awards:

a. An award Recipient shall use FA funds only for the eligible activities described in Section II.(C)(1) of this NOFA and its Assistance Agreement.

b. A Recipient may not distribute FA funds to an Affiliate, Subsidiary, or any other entity, without the CDFI Fund's prior written approval.

c. FA funds shall only be paid to the Recipient.

d. The CDFI Fund, in its sole discretion, may pay FA funds in amounts, or under terms and conditions, which are different from those requested by an Applicant.

2. HFFI-FA awards:

a. An award Recipient shall use HFFI-FA funds only for the eligible activities described in Section II.(C)(1) of this NOFA and its Assistance Agreement.

b. A Recipient may not distribute HFFI-FA funds to an Affiliate, Subsidiary, or any other entity, without the CDFI Fund's prior written approval.

c. HFFI-FA funds shall only be paid to the Recipient.

d. The CDFI Fund, in its sole discretion, may pay HFFI-FA funds in amounts, or under terms and conditions, which are different from those requested by an Applicant.

3. TA grants:

a. An award Recipient shall use TA funds only for the eligible activities described in Section II.(C)(2) of this NOFA and its Assistance Agreement.

b. A Recipient may not distribute TA funds to an Affiliate, Subsidiary or any other entity, without the CDFI Fund's prior written consent.

c. TA funds shall only be paid to the Recipient.

d. The CDFI Fund, in its sole discretion, may pay TA funds in amounts, or under terms and conditions, which are different from those requested by an Applicant.

V. Application Review Information

A. Criteria: If the Applicant has submitted an eligible Application, the CDFI Fund will conduct a substantive review in accordance with the criteria and procedures described in the Regulations, this NOFA, the Application guidance, and the Uniform Administrative Requirements. The CDFI Fund reserves the right to contact the Applicant by telephone, email, or mail for the sole purpose of clarifying or confirming Application information. If contacted, the Applicant must respond within the time period communicated by the CDFI Fund or run the risk that its Application will be rejected. The CDFI Fund will review the FA, HFFI-FA, and TA Applications according the below process.

1. Financial Assistance (FA) Application Scoring, Award Selection, Review, and Selection Process: The CDFI Fund will evaluate each Application using a five step review process illustrated in the sections below. Applicants that meet the minimum criteria will advance to the next step in the review process. Applicants applying as a Community Partnership must describe partnership in the Application per requirements set forth in Table 8 and will be evaluated per the review process described below.

a. Step 1: Eligibility Review: The CDFI Fund will evaluate each Application to determine its eligibility status per Section III. Eligibility Information of this NOFA.

b. Step 2: Financial Analysis: An external non-CDFI Fund reviewer will evaluate the financial health and viability of each Application using the financial information provided in the Application. The Reviewer will evaluate the Financial Analysis Components listed in Table 12 and assign a score on a scale of one (1) to five (5), which will be used to calculate a Total Financial Composite Score on a scale of one (1) to five (5), with one (1) being the highest rating. All Applications will be reviewed in accordance with standard reviewer evaluation materials for the financial analysis described in supplemental guidance located on the CDFI Fund's Web site. Applications will be grouped based on the Total Financial Composite Score. Applicants must receive a Total Financial Composite Score of one (1), two (2), or three (3) to advance to Step 3. Applicants that receive a Total Financial Composite Score of four (4) or five (5) will be evaluated and scored by a second external, non-Federal reviewer. Applicants that receive a Total Financial Composite Score of four (4) or five (5) will not advance to Step 3. In instances an Applicant receives an initial score of four (4) or five (5) and a second score of one (1), two (2), or three (3), the two reviewers will discuss their evaluations and decide on one final Total Financial Composite Score.

Table 12—Step 2: FA Financial Analysis Scoring Criteria
Financial analysis component | Possible scores | High score | Score needed to advance
Capital Adequacy | 1, 2, 3, 4, or 5 | 1 | N/A.
Asset Quality | 1, 2, 3, 4, or 5 | 1 | N/A.
Earnings | 1, 2, 3, 4, or 5 | 1 | N/A.
Capital Liquidity | 1, 2, 3, 4, or 5 | 1 | N/A.
Operating Liquidity | 1, 2, 3, 4, or 5 | 1 | N/A.
Total Financial Composite Score | 1, 2, 3, 4, or 5 | 1 | 1, 2, or 3.

c. Step 3: Business Plan Review: Applicants that proceed to Step 3 will be evaluated on the soundness of each Applicant's comprehensive business plan. The two external non-CDFI Fund Reviewers conducting the Step 3 evaluation will be different than those that conduct the Step 2 evaluation. Reviewers will evaluate the Application sections listed in Table 13. All Applications will be reviewed in accordance with standard reviewer evaluation materials for the business plan review. Applications will be ranked based on Total Business Plan Scores, in descending order. In order to advance to Step 4, Applicants must receive a Total Business Plan Score within the top 60 percent of the applicant pool. In the case of tied Total Business Plan Scores that would prevent an Applicant from moving to Step 4, Applicants will be ranked according to their Step 2 Total Financial Composite Score and standard anomaly procedures.

Table 13—Step 3: FA Business Plan Review Scoring Criteria
FA application sections | Possible score | Score needed to advance
Executive Summary | Not Scored | N/A.
Business Strategy | 7 | N/A.
Products and Services | 7 | N/A.
Market and Competitive Analysis | 7 | N/A.
Management and Staffing | 7 | N/A.
Financial Position | 7 | N/A.
Growth and Financial Projections | 7 | N/A.
Total Business Plan Score | 49 | Within Top 60 percent of all Step 3 Scores.

d. Step 4: Policy Objective Review: For Applicants that advance to Step 4, the CDFI Fund internal reviewers will evaluate each Application to determine its ability to meet policy objectives of the CDFI Fund authorizing statute. The policy objectives considered in this evaluation are listed in Table 14 below. Each Applicant will be evaluated in each of the categories, which will result in a Total Policy Objective Review Score on a scale of one (1) to five (5), with one (1) being the highest score. Applicants are then grouped according to Total Policy Objective Review Scores.

In Step 4, the CDFI Fund also conducts a due diligence review for Applications that includes an analysis of programmatic risk factors including, but not limited to: History of performance in managing Federal awards (including timeliness of reporting and compliance); reports and findings from audits; and the Applicant's ability to effectively implement Federal requirements, which could impact the Total Policy Objective Review Score.

Table 14—Step 4: FA Policy Review Scoring Criteria
Section | Possible scores | High score | Score needed to advance
Economic Distress | 1, 2, 3, 4, or 5 | 1 | N/A.
Economic Opportunities | 1, 2, 3, 4, or 5 | 1 | N/A.
Partnerships | 1, 2, 3, 4, or 5 | 1 | N/A.
Total Policy Objective Review Score | 1, 2, 3, 4, or 5 | 1 | All Scores Advance.

e. Step 5: Award Amount Determination: The CDFI Fund determines an award amount for each Application based on the Step 4 Total Policy Objective Review Score, the Applicant's request amount, and on certain variables, including but not limited to: An Applicant's deployment track record, minimum award size, and funding availability. Award amounts may be reduced from the requested award amount as a result of this analysis. Lastly, the CDFI Fund may consider the geographic diversity of Applicants when making its funding decisions.

2. Healthy Food Financing Initiative-FA (HFFI-FA) Application Scoring, Award Selection, Review, and Selection Process: Two external non-CDFI Fund reviewers will evaluate each HFFI-FA Application whose associated FA application that progress to Step 4 of the FA Application review process. Reviewers will evaluate the Application sections listed in Table 15 and assign a Total HFFI-FA Score up to 25 points. All Applications will be reviewed in accordance with standard reviewer evaluation materials. Applications will be ranked based on total scores, in descending order. Applicants that fail to receive an FA award will not be considered for an HFFI-FA award.

The CDFI Fund conducts additional levels of due diligence for Applications that are in scoring contention for an award. This due diligence includes an analysis of programmatic and financial risk factors including, but not limited to: Financial stability, quality of management systems and ability to meet award management standards, history of performance in managing Federal awards (including timeliness of reporting and compliance), reports and findings from audits, and the Applicant's ability to effectively implement Federal requirements. Award amounts may be reduced from the requested award amount as a result of this analysis. The CDFI Fund may reduce awards sizes from requested amounts based on certain variables, including an Applicant's loan disbursement activity, total portfolio outstanding, and similar factors. Lastly, the CDFI Fund may consider the geographic diversity of Applicants when making its funding decisions.

Table 15—Step 3 HFFI-FA Application Scoring Criteria
HFFI-FA narrative sections | HFFI-FA applicants (points)
HFFI Target Market Profile | 4
Healthy Food Financial Products | 5
Healthy Food Development Services | 2
Projected HFFI-FA Activities | 7
HFFI Track Record, Management Capacity for Providing Healthy Food Financing, Healthy Food Financing Outcomes | 7
Total HFFI-FA Score | 25

3. Technical Assistance (TA) Application Scoring, Award Selection, Review, and Selection Process: The CDFI Fund will evaluate each Application to determine its eligibility status per Section III. Eligibility Information of this NOFA. If the Application meets the eligibility criteria, the CDFI Fund will evaluate each TA Application using standard scoring criteria in the Business Plan Review (Table 16). An Applicant must receive a minimum 60 points of the Total TA Business Plan Score for the TA components in order to be considered for an award. Emerging CDFI or Certifiable CDFI Applicants must achieve a minimum score of 35 points in Section I to be considered for an award and reviewed in Section II.

An Applicant that is a Certified CDFI will be rated on the demonstrated need for TA funding to build the CDFI's capacity, further the Applicant's strategic goals, and achieve impact within the Applicant's Target Market. An Applicant that is an Emerging CDFI or Certifiable CDFI will be rated on the Applicant's demonstrated capability and plan to achieve CDFI certification within three years, or if a prior awardee, the certification performance goal and measure stated in its prior Assistance Agreement. An Applicant that is an Emerging CDFI and Certifiable CDFI will also be rated on its demonstrated need for TA funding to build the CDFI's capacity and further its strategic goals.

The CDFI Fund will score each part of the TA Business Plan Review as indicated in Table 16.

Table 16—TA Business Plan Review Scoring Criteria
TA application sections | Emerging CDFI or certifiable CDFI (points) | Certified CDFI (points)
Section I:
Primary Mission | 15 | N/A
Financing Entity | 15 | N/A
Target Market | 15 | N/A
Accountability | 15 | N/A
Development Services | 15 | N/A
Section II:
Organization Overview | 5 | 20
Management and Staff | 5 | 20
Community Coordination | 5 | 20
Financial Performance | 5 | 20
Organizational Impact | 5 | 20
Total TA Business Plan Score | 100 | 100

Each TA Application will be evaluated by one internal CDFI Fund reviewer. Internal reviewers must complete the CDFI Fund's conflict of interest process. The CDFI Fund's application conflict of interest policy is located on the CDFI Fund's Web site. All Applications will be reviewed in accordance with CDFI Fund standard reviewer evaluation materials for the Business Plan Review. Applications will be ranked based on Total TA Business Plan Score, in descending order. In the case of tied scores that would prohibit the Application from progressing to the next level of review, Certified Applicants will be ranked first according to each Organization Overview score and Emerging CDFI and Certifiable CDFI Applicants will be ranked first according to the total Section I score.

The CDFI Fund conducts additional levels of due diligence for Applications that are in scoring contention for an award. This due diligence includes an analysis of programmatic and financial risk factors including, but not limited to: Financial stability, history of performance in managing Federal awards (including timeliness of reporting and compliance), reports and findings from audits, and the Applicant's ability to effectively implement Federal requirements. Award amounts may be reduced as a result of this analysis, the eligibility of an Applicant's funding request and similar factors. Lastly, the CDFI Fund may consider the geographic diversity of Applicants when making its funding decisions.

4. Insured Depository Institutions: The CDFI Fund will consider safety and soundness information from the Appropriate Federal or State Banking Agency. If the Applicant is a CDFI Depository Institution Holding Company, the CDFI Fund will consider information provided by the Appropriate Federal or State Banking Agencies about both the CDFI Depository Institution Holding Company and the Subsidiary CDFI Certified Insured Depository Institution that will expend and carry out the award. If the Appropriate Federal Banking Agency or Appropriate State Agency identifies safety and soundness concerns, the CDFI Fund will assess whether the concerns cause or will cause the Applicant to be incapable of undertaking the activities for which funding has been requested.

5. Non-Regulated Institutions: In accordance with the CDFI Program's authorizing statute and regulations, the CDFI Fund must ensure, to the maximum extent practicable, that recipients that are non-regulated CDFIs are financially and managerially sound and maintain appropriate internal controls (12 U.S.C. 4707(f)(1)(A) and 12 CFR 1805.800(b)). Further, the CDFI Fund must determine that an Applicant's capacity to operate as a CDFI and its continued viability will not be dependent upon assistance from the CDFI Fund (12 U.S.C. 4704(b)(2)(A)). If it is determined the Applicant is incapable of meeting these requirements, the CDFI Fund reserves the right to deem the Applicant ineligible or terminate the award.

B. Anticipated Award Announcement: The CDFI Fund anticipates making CDFI Program award announcements after September 23, 2017 and before September 30, 2017.

C. Application Rejection: The CDFI Fund reserves the right to reject an Application if information (including administrative error) comes to the CDFI Fund's attention that either: Adversely affects an Applicant's eligibility for an award; adversely affects the Recipient's certification as a CDFI (to the extent that the award is conditional upon CDFI certification); adversely affects the CDFI Fund's evaluation or scoring of an Application; or indicates fraud or mismanagement on the Applicant's part. If the CDFI Fund determines any portion of the Application is incorrect in a material respect, the CDFI Fund reserves the right, in its sole discretion, to reject the Application. The CDFI Fund reserves the right to change its eligibility and evaluation criteria and procedures, if the CDFI Fund deems it appropriate. If the changes materially affect the CDFI Fund's award decisions, the CDFI Fund will provide information about the changes through its Web site. The CDFI Fund's award decisions are final and there is no right to appeal the decisions.

D. External Non-CDFI Fund Reviewers: All external non-CDFI Fund reviewers are selected based on criteria that includes a professional background in community and economic development finance and experience reviewing the financial statements of all CDFI institution types. Reviewers must complete the CDFI Fund's conflict of interest process and be approved by the CDFI Fund. The CDFI Fund's application reader conflict of interest policy is located on the CDFI Fund's Web site.

VI. Federal Award Administration Information

A. Award Notification: Each successful Applicant will receive an email “notice of award” notification from the CDFI Fund stating that its Application has been approved for an award. Each Applicant not selected for an award will receive an email stating that a debriefing notice has been provided in its AMIS account.

B. Assistance Agreement: Each Applicant selected to receive an award must enter into an Assistance Agreement with the CDFI Fund in order to receive a payment(s). The Assistance Agreement will set forth the award's terms and conditions, including but not be limited to the: (i) Award amount; (ii) award type; (iii) award uses; (iv) eligible use of funds; (v) performance goals and measures; and (vi) reporting requirements. FA Assistance Agreements have three-year periods of performance; TA Assistance Agreements have two-year periods of performance for Certified CDFIs and three-year periods of performance for Emerging CDFIs or Certifiable CDFIs.

1. Certificate of Good Standing: All FA and TA Recipients that are not Insured Depository Institutions will be required to provide the CDFI Fund with a certificate of good standing from the secretary of state for the Recipient's State of incorporation prior to closing. This certificate can often be acquired online on the secretary of state Web site for the Recipient's State of incorporation and must generally be dated within 180 days before the date the Recipient executes the Assistance Agreement. Due to potential backlogs in State government offices, Applicants are advised to submit requests for certificates of good standing no later than 60 days after they submit their Applications.

2. Closing: Pursuant to the Assistance Agreement, there will be an initial closing at which point the Assistance Agreement and related documents will be properly executed and delivered, and an initial payment of FA or TA may be made. FA Recipients that are subject to the matching funds requirement will not receive a payment until 100 percent of their matching funds are In-Hand. The first payment is the estimated amount of award that the Recipient states in its Application that it will use for eligible FA or TA activities in the first 12 months after the award. The CDFI Fund reserves the right to increase the first payment amount on any award to ensure that any subsequent payments are greater than $25,000 for FA and $5,000 for TA awards.

The CDFI Fund will minimize the time between the Recipient incurring costs for eligible activities and award payment in accordance with the Uniform Administrative Requirements. The advanced payments for eligible activities will occur no more than one year in advance of the Recipient incurring costs for the eligible activities. Following the initial closing, there may be subsequent closings involving additional award payments. Any documents in addition to the Assistant Agreement that are connected with such subsequent closings and payments shall be properly executed and timely delivered by the Recipient to the CDFI Fund.

3. Requirements Prior to Entering into an Assistance Agreement: If, prior to entering into an Assistance Agreement, information (including administrative error) comes to the CDFI Fund's attention that: Adversely affects the Recipient's eligibility for an award; adversely affects the Recipient's certification as a CDFI (to the extent that the award is conditional upon CDFI certification); adversely affects the CDFI Fund's evaluation of the Application; indicates that the Recipient is not in compliance with any requirement listed the Uniform Administrative Requirements; or indicates fraud or mismanagement on the Recipient's part, the CDFI Fund may, in its discretion and without advance notice to the Recipient, terminate the award or take such other actions as it deems appropriate. The CDFI Fund reserves the right, in its sole discretion, to rescind an award if the Recipient fails to return the Assistance Agreement, signed by the authorized representative of the Recipient, and/or provide the CDFI Fund with any other requested documentation, within the CDFI Fund's deadlines.

In addition, the CDFI Fund reserves the right, in its sole discretion, to terminate and rescind the Assistance Agreement and the award made under this NOFA pending the criteria described in the following table:

Table 17—Requirements Prior to Executing an Assistance Agreement
Requirement | Criteria
Failure to meet reporting requirements | • If a Recipient received a prior award under any CDFI Fund program and is not current with the reporting requirements in the previously executed agreement(s), the CDFI Fund can delay entering into an Assistance Agreement or disbursing an award until reporting requirements are met.
| • If such a Recipient is unable to meet the requirement within the timeframe specified, the CDFI Fund may terminate and rescind the Assistance Agreement and the award made under this NOFA.
| • The automated systems the CDFI Fund uses only acknowledge a report's receipt, not a determination of meeting reporting requirements.
Failure to maintain CDFI Certification | • An FA Recipient must be a Certified CDFI prior to entering into an Assistance Agreement.
| • If an FA Recipient fails to maintain CDFI Certification, the CDFI Fund will terminate and rescind the Assistance Agreement and the award made under this NOFA.
Pending resolution of noncompliance | • The CDFI Fund will delay entering into an Assistance Agreement with a Recipient that has pending noncompliance issues of any of its previously executed award agreement(s), if the CDFI Fund has not yet made a final compliance determination.
| • If the Recipient is unable to satisfactorily resolve the compliance issues, the CDFI Fund may terminate and rescind the Assistance Agreement and the award made under this NOFA.
Noncompliance status | • If, at any time prior to entering into an Assistance Agreement, the CDFI Fund determines that a Recipient is noncompliant with a previously executed agreement and the CDFI Fund has provided written notification that the Recipient is ineligible to apply for or receive any future awards or allocations for a time period specified by the CDFI Fund in writing. The CDFI Fund can delay entering into an Assistance Agreement, until the Recipient has cured the default by taking actions the CDFI Fund has specified within the specified timeframe. If the Recipient is unable to meet the cure requirement within the specified timeframe, the CDFI Fund may terminate and rescind the Assistance Agreement and the award made under this NOFA.
Compliance with Federal civil rights requirements | • If prior to entering into an Assistance Agreement under this NOFA, the Recipient receives a final determination, made within the last three years, in any proceeding instituted against the Recipient in, by, or before any court, governmental, or administrative body or agency, declaring that the Recipient has violated the following laws: Title VI of the Civil Rights Act of 1964, as amended (42 U.S.C. 2000d); Section 504 of the Rehabilitation Act of 1973 (29 U.S.C. 794); the Age Discrimination Act of 1975 (42 U.S.C. 6101-6107), and Executive Order 13166, Improving Access to Services for Persons with Limited English Proficiency, the CDFI Fund will terminate and rescind the Assistance Agreement and the award made under this NOFA.
Do Not Pay | • The Do Not Pay Business Center was developed to support Federal agencies in their efforts to reduce the number of improper payments made through programs funded by the Federal government.
| • The CDFI Fund reserves the right, in its sole discretion, to rescind an award if the Recipient is identified as an ineligible recipient on the Do Not Pay database.
Safety and soundness | • If it is determined the Recipient is or will be incapable of meeting its award obligations, the CDFI Fund will deem the Recipient to be ineligible or require it to improve safety and soundness conditions prior to entering into an Assistance Agreement.

C. Reporting:

1. Reporting requirements: On an annual basis for the period of performance, the CDFI Fund may collect information from each Recipient including, but not limited to, an Annual Report with the following components:

Table 18—Annual Reporting Requirements
Financial Report (Financial Statements and Related Auditor's and Accountant's Review Reports, if applicable) | The Financial Report will be reviewed by the CDFI Fund to determine the Recipient's financial and managerial soundness.
Single Audit (if applicable) (or similar report) | If a Recipient is required to complete a Single Audit Report, it should be submitted to the Federal Audit Clearinghouse (see 2 CFR subpart F-Audit Requirements in the Uniform Administrative Requirements).
| For-profit Recipients will be required to complete and submit a similar report directly to the CDFI Fund.
Institution Level Report (ILR) | The ILR is a report used to collect compliance and performance data from CDFI Fund award Recipients. The ILR is submitted through the Community Investment Impact System (CIIS) and captures organizational information, financial position, lending and investing activities, community development outputs, and development services.
Transaction Level Report (TLR) | The TLR is a report used to collect compliance and performance data from CDFI Fund award Recipients. The TLR is submitted through the CIIS and captures data on each individual loan and investment in the award Recipient's portfolio.
| • For CDFI Depository Institution Holding Company award Recipients, the TLR captures data on the individual loans and investments by its CDFI Subsidiary Insured Depository Institution's portfolio.
| • TLR is not required for TA Recipients.
Federal Financial Report/OMB Standard Form 425 | If the Recipient receives a TA award, it must submit the Federal Financial Report/OMB Standard Form 425 via AMIS.
Uses of Funds Report | If the Recipient receives an FA or TA award, it must submit the Uses of Funds Report via AMIS.
Shareholders Report | If the Assistance is in the form of an Equity Investment, the Recipient must submit shareholder information to the CDFI Fund showing the class, series, and number of shares and valuation of capital stock held or to be held by each shareholder. The Shareholder Report must be submitted for as long as the CDFI Fund is an equity holder.
Financial Assistance Objectives Report (or similar report) | If the Recipient receives an FA award, it must submit information on the status of complying with the FA Objectives and Impacts.

Each Recipient is responsible for the timely and complete submission of the Annual Reporting requirements. The CDFI Fund reserves the right to contact the Recipient and additional entities or signatories to the Assistance Agreement to request additional information and documentation. The CDFI Fund will use such information to monitor each Recipient's compliance with the requirements in the Assistance Agreement and to assess the impact of the CDFI Program. The CDFI Fund reserves the right, in its sole discretion, to modify these reporting requirements, including increasing the scope and frequency of reporting, if it determines it to be appropriate and necessary; however, such reporting requirements will be modified only after notice to Recipients.

2. Financial Management and Accounting: The CDFI Fund will require Recipients to maintain financial management and accounting systems that comply with Federal statutes, regulations, and the terms and conditions of the Federal award. These systems must be sufficient to permit the preparation of reports required by general and program specific terms and conditions, including the tracing of funds to a level of expenditures adequate to establish that such funds have been used according to the Federal statutes, regulations, and the terms and conditions of the Federal award.

The cost principles used by Recipients must be consistent with Federal cost principles and support the accumulation of costs as required by the principles, and must provide for adequate documentation to support costs charged to the CDFI Program award. In addition, the CDFI Fund will require Recipients to: Maintain effective internal controls; comply with applicable statutes, regulations, and the Assistance Agreement; evaluate and monitor compliance; take action when not in compliance; and safeguard personally identifiable information.

VII. Agency Contacts

A. The CDFI Fund will respond to questions concerning this NOFA and the Application between the hours of 9:00 a.m. and 5:00 p.m. Eastern Daylight Savings Time, starting on the date that the NOFA is published through the date listed in Table 1 and Table 11. The CDFI Fund will post on its Web site responses to reoccurring questions received about this Application. Other information regarding the CDFI Fund and its programs may be obtained from the CDFI Fund's Web site at http://www.cdfifund.gov. Table 19 lists CDFI Fund contact information:

Table 19—Contact Information
Type of question | Telephone number (not toll free) | Email addresses
CDFI Program | 202-653-0421, option 1 | cdfihelp@cdfi.treas.gov
Certification, Compliance Monitoring, and Evaluation | 202-653-0423 | ccme@cdfi.treas.gov
AMIS—IT Help Desk | 202-653-0422 | AMIS@cdfi.treas.gov

B. Information Technology Support: For IT Assistance, submit an AMIS Service Request (Record Type of “General Inquiry”). In the Service Request form, select the appropriate program, then select “AMIS Technical Problem” as the Type. People who have visual or mobility impairments that prevent them from using the CDFI Fund's Web site should call (202) 653-0422 for assistance (this is not a toll free number).

C. Communication with the CDFI Fund: The CDFI Fund will use contact information in AMIS to communicate with Applicants and Recipients. It is imperative, therefore, that Applicants, Recipients, Subsidiaries, Affiliates, and signatories maintain accurate contact information in their accounts. This includes information such as contact names (especially for the authorized representative) listed in this NOFA's application materials, email addresses, fax and phone numbers, and office locations.

D. Civil Rights and Diversity: Any person who is eligible to receive benefits or services from the CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave. NW., Washington, DC 20220 or (202) 622-1160 (not a toll-free number).

VIII. Other Information

A. Paperwork Reduction Act: Under the Paperwork Reduction Act (44 U.S.C. chapter 35), an agency may not conduct or sponsor a collection of information, and an individual is not required to respond to a collection of information, unless it displays a valid OMB control number. If applicable, the CDFI Fund may inform Applicants that they do not need to provide certain Application information otherwise required. Pursuant to the Paperwork Reduction Act, the CDFI Program, and NACA Program Application has been assigned the following control number: 1559-0021.

B. Application Information Sessions: The CDFI Fund may conduct webinars or host information sessions for organizations that are considering applying to, or are interested in learning about, the CDFI Fund's programs. For further information, please visit the CDFI Fund's Web site at http://www.cdfifund.gov.

Authority: 12 U.S.C. 4701, et seq.; 12 CFR parts 1805 and 1815; 2 CFR part 200.

Mary Ann Donovan,
Director, Community Development Financial Institutions Fund.

[FR Doc. 2017-03743 Filed 2-24-17; 8:45 am]

BILLING CODE 4810-70-P